DEPARTMENT OF THE INTERIOR

Bureau of Land Management

[MT-050-1430-FR; MTM 95482]

Notice of Realty Action: Recreation and Public Purposes Act Classification and Conveyance; Beaverhead County, MT

AGENCY: Bureau of Land Management, Interior.

ACTION: Notice of Realty Action.

SUMMARY: The Bureau of Land Management (BLM) has examined and found suitable for classification for conveyance to Beaverhead County under the provisions of the Recreation and Public Purposes Act, two parcels of public lands located near Dillon, in Beaverhead County, Montana. One of the parcels has been leased under the Recreation and Public Purposes Act to the Dillon Rifle and Pistol Club for use as a shooting range since 1965. Beaverhead County intends to further develop and expand the existing shooting range facility.

DATES: For a period until July 30, 2007, interested parties may submit comments to the Field Manager, BLM Dillon Field Office at the address below.

ADDRESSES: Bureau of Land Management, Dillon Field Office, 1005 Selway Drive, Dillon, Montana 59725.

FOR FURTHER INFORMATION CONTACT: Angela Brown, Realty Specialist, Dillon Field Office, (406) 683-8045 or via e-mail at angela_brown@mt.blm.gov.

SUPPLEMENTARY INFORMATION: The following described public land in Beaverhead County, Montana has been examined and found suitable for classification for conveyance under the provisions of the Recreation and Public Purposes (R&PP) Act as amended (43 U.S.C. 869 et seq.) and is hereby classified accordingly:

Principal Meridian, Montana

T. 7 S., R. 9 W.,

Sec. 7, lots 1, 2 and 3.

T. 7 S., R. 10 W.,

Sec. 12, E½NE¼.

The area described contains 169.81 acres in Beaverhead County.

The parcel of land described in section 7 (lots 1, 2 and 3 encompassing 89.81 acres) was previously classified for lease under the R&PP Act, for shooting range purposes. The purpose of this notice is to classify the entire 169.81 acres of the land described above as suitable for conveyance under the R&PP Act.

Beaverhead County has filed an R&PP application and plan of development to patent the public land (the previously leased land and additional acreage) in which it proposes to construct, operate, maintain, and further develop the shooting range. The additional acreage will serve as a safety buffer zone and expansion of the shooting range. The land is not needed for Federal purposes. Patent of the land conforms to the Dillon Resource Management Plan and would be in the public interest.

The patent document, when issued, will be subject to the provisions of the R&PP Act and applicable regulations of the Secretary of the Interior and would contain the following terms, conditions, and reservations to the United States:

1. A right-of-way thereon for ditches or canals constructed by the authority of the United States, Act of August 30, 1890 (43 U.S.C. 945).

2. All minerals, together with the right to prospect for, mine, and remove such deposits from the lands under applicable law and such regulations as the Secretary of the Interior may prescribe.

3. All valid, existing rights of record, including those documented on the official public land records at the time of patent issuance.

4. Those rights for electric power line purposes granted to Vigilante Electric Cooperative, its successors and assigns, by right-of-way number MTM 60935, pursuant to the Federal Land Policy and Management Act of October 21, 1976, (43 U.S.C. 1761) as to lot 3, section 7, T. 7 S., R. 9 W.

5. Those rights for a water pipeline to the City of Dillon located in lot 3, section 7, T. 7 S., R. 9 W. to transport water from Kelly Reservoir to a storage facility near Dillon for fire suppression.

6. No portion of the land patented shall revert back to the United States under any circumstance. In addition, the patentee shall comply with all Federal and State laws applicable to the disposal, placement, or release of hazardous substances (substance as defined in 40 CFR Part 302) and indemnify the United States against any legal liability or future costs that may arise out of any violations of such laws.

7. Pursuant to the requirements established by section 120(h) of the Comprehensive Environmental Response, Compensation and Liability Act, (42 U.S.C. 9620(h)) (CERCLA), as amended by the Superfund Amendments and Reauthorization Act of 1988, (100 Stat. 1670) notice is hereby given that the above-described lands have been examined and no evidence was found to indicate that any hazardous substances had been stored for one year or more, or had any hazardous substances been disposed of or release on the subject property.

Additional detailed information concerning the proposed action, including but not limited to documentation relating to compliance with applicable environmental and cultural resource laws, is available for review at the BLM, Dillon Field Office, 1005 Selway Drive, Dillon, Montana.

Upon publication of this notice in the Federal Register, the above described public lands will be segregated from all other forms of appropriation under the public land laws, including the general mining laws, except for patent under the R&PP Act and leasing under the mineral leasing laws.

Classification Comments: Interested parties may submit comments involving the suitability of the land for conveyance. Comments on the classification are restricted to whether the land is physically suited for the proposal, whether the use will maximize the future uses of the land, whether the use is consistent with local planning and zoning, or if the use is consistent with state and Federal programs.

Patent Comments: Interested parties may submit comments regarding the patent and the specific use proposed in the application and plan of development, whether the BLM followed proper administrative procedures in reaching the decision, or any other factor not directly related to the suitability of the land for R&PP use.

Confidentiality of Comments: Before including your address, phone number, e-mail address, or other personal identifying information in your comment, you should be aware that your entire comment—including your personal identifying information—may be made publicly available at any time. While you can ask in your comment to withhold your personal identifying information from public review, we cannot guarantee that we will be able to do so.

Any adverse comments will be reviewed by the Dillon Field Manager, who may sustain, vacate, or modify this realty action. In the absence of any adverse comments, the classification of the land described in this notice will become effective on August 13, 2007. The land will not be offered for patent until after the classification becomes effective.

(Authority: 43 CFR 2741.5)

Tim Bozorth,
Field Manager.

[FR Doc. E7-11421 Filed 6-12-07; 8:45 am]

BILLING CODE 4310-$$-P